TENNESSEE VALLEY AUTHORITY

Charter Renewal of the Regional Energy Resource Council

AGENCY: Tennessee Valley Authority (TVA).

ACTION: Renewal of Federal Advisory Committee.

SUMMARY: Pursuant to the Federal Advisory Committee Act (FACA), the TVA Board of Directors has renewed the Regional Energy Resource Council (RERC) charter for an additional two-year period beginning on August 1, 2019.

FOR FURTHER INFORMATION CONTACT: Elizabeth Upchurch, 865-632-8305, efupchurch@tva.gov.

SUPPLEMENTARY INFORMATION: Pursuant to FACA and its implementing regulations, and following consultation with the Committee Management Secretariat, General Services Administration (GSA) in accordance with 41 CFR 102-3.60(a), notice is hereby given that the RERC has been renewed for a two-year period beginning August 1, 2019. The RERC will provide advice to TVA on its issues affecting energy resource activities. The RERC was originally established in 2013 to advise TVA on its energy resource activities and the priority to be placed among competing objectives and values. It has been determined that the RERC continues to be needed to provide an additional mechanism for public input regarding energy issues.

Dated: August 15, 2019.
Joseph J. Hoagland,
Vice President, Tennessee Valley Authority.

[FR Doc. 2019-18156 Filed 8-22-19; 8:45 am]

BILLING CODE 8120-08-P